LEGAL SERVICES CORPORATION

45 CFR Parts 1630 and 1631

[Docket No. LSC-2017-0028]

Cost Standards and Procedures; Purchasing and Property Management; Correction

AGENCY: Legal Services Corporation.

ACTION: Final rule; correction.

SUMMARY: The Legal Services Corporation (LSC) is correcting a final rule that appeared in the Federal Register on August 10, 2017. LSC's Property Acquisition and Management Manual (PAMM) and its cost standards rule required grantees to seek approval prior to making any real estate purchase with LSC funds, regardless of the purchase price. The final rule's language describing this longstanding policy was incorrect. This document corrects the language to remain consistent with LSC's current policy. The document also contained an incorrect cross-reference to another section. This document corrects the final rule by revising that cross-reference.

DATES: Effective December 31, 2017.

FOR FURTHER INFORMATION CONTACT: Stefanie K. Davis, Assistant General Counsel, Legal Services Corporation, 3333 K St. NW., Washington, DC 20007; (202) 295-1563; sdavis@lsc.gov.

SUPPLEMENTARY INFORMATION: In FR Doc. 2017-16764 appearing on page 37327 of the Federal Register of Thursday, August 10, 2017, the following corrections are made:

§ 1630.6 [Corrected]

1. On page 37339, in the third column, in § 1630.6, correct paragraph (b) by redesingnating paragraphs (b)(2) and (3) as paragraphs (b)(3) and (4), adding new paragraph (b)(2), and revising paragraph (b)(1). The correcting revision and addition read as follows:

(b) Costs requiring prior approval. (1) Without LSC's prior written approval, a recipient may not expend $25,000 or more of LSC funds on any of the following:

(i) A single purchase or single lease of personal property;

(ii) A single contract for services;

(iii) A single combined purchase or lease of personal property and contract for services; and

(iv) Capital improvements.

(2) Without LSC's prior written approval, a recipient may not expend LSC funds on a purchase of real estate.

§ 1631.3 [Corrected]

2. On page 37342, in the first and second columns, in § 1631.3, paragraph (d)(2) is corrected to read: “(2) The recipient must provide LSC with a description of the exigent circumstances and the information described in § 1631.8(b) within 30 days after the circumstances necessitating the purchase or contract have ended.”

Dated: November 14, 2017.
Stefanie K. Davis,
Assistant General Counsel.

[FR Doc. 2017-25035 Filed 11-17-17; 8:45 am]

BILLING CODE 7050-01-P